NATIONAL SCIENCE FOUNDATION

Advisory Committee for Biological Sciences; Notice of Meeting

In accordance with the Federal Advisory Committee Act (Pub. L. 92-463, as amended), the National Science Foundation announces the following meeting:

Name: Advisory Committee for Biological Sciences (#1110).

Date and Time: December 18, 2015 2:30 p.m.-3:00 p.m.

Place: Virtual meeting via teleconference hosted by NSF.

The NSF is located at 4201 Wilson Blvd., Arlington, VA 22230.

Type of Meeting: Closed.

Contact Person: Charles Liarakos, National Science Foundation, 4201 Wilson Boulevard, Room 605, Arlington, VA 22230; Tel No.: (703) 292-8400.

Purpose of Meeting: Review Report from the NSF BIO Advisory Committee Subcommittee on NEON Scope Impacts.

Reason for Late Notice: Expedite matter of critical NSF interest.

Agenda: Discussion of the Report.

Vote on Report.

Dated: December 14, 2015.
Suzanne Plimpton,
Acting, Committee Management Officer.

[FR Doc. 2015-31765 Filed 12-17-15; 8:45 am]

BILLING CODE 7555-01-P